DEPARTMENT OF THE INTERIOR

Fish and Wildlife Service

[FWS-R5-R-2013-N146; BAC-4311-K9]

Sunkhaze Meadows National Wildlife Refuge and Carlton Pond Waterfowl Production Area, Penobscot, Kennebec, and Waldo Counties, ME; Final Comprehensive Conservation Plan

AGENCY: Fish and Wildlife Service, Interior.

ACTION: Notice of availability.

SUMMARY: We, the U.S. Fish and Wildlife Service (Service), announce the availability of a final comprehensive conservation plan (CCP) and finding of no significant impact (FONSI) for the environmental assessment (EA) for Sunkhaze Meadows National Wildlife Refuge (NWR) and Carlton Pond Waterfowl Production Area (WPA), located in Penobscot, Kennebec, and Waldo Counties, Maine. The CCP describes how we will manage the refuge and WPA for the next 15 years.

ADDRESSES: You may view or obtain copies of the CCP by any of the following methods. You may request hard copies or a CD-ROM of the documents.

Agency Web site: Download a copy of the document at http://www.fws.gov/northeast/planning/Sunkhaze%20Meadows/ccphome.html.

Email: Send requests to northeastplanning@fws.gov. Please include “Sunkhaze Meadows NWR and Carlton Pond WPA Final CCP” in the subject line of the message.

U.S. Mail: Lia McLaughlin, Natural Resource Planner, U.S. Fish and Wildlife Service, 300 Westgate Center Drive, Hadley, MA 01035.

Fax: Attn: Lia McLaughlin, 413-253-8468.

In-Person Drop-off, Viewing, or Pickup: Call 207-594-0600 to make an appointment (necessary for view/pickup only) during regular business hours at Maine Coastal Islands NWR, 9 Water Street, Rockland, ME 04841. For more information on locations for viewing or obtaining documents, see “Public Availability of Documents” under SUPPLEMENTARY INFORMATION.

FOR FURTHER INFORMATION CONTACT: Beth Goettel, Refuge Manager, 207-594-0600 (phone), or Lia McLaughlin, Planning Team Leader, 413-253-8575 (phone); northeastplanning@fws.gov (email).

SUPPLEMENTARY INFORMATION:

Introduction

With this notice, we finalize the CCP process for Sunkhaze Meadows NWR and Carlton Pond WPA. We started this process through a notice in the Federal Register (76 FR 14984; March 18, 2011). We released the draft CCP and EA to the public on April 23, 2013, announcing and requesting comments in a notice of availability in the Federal Register (78 FR 23949).

Currently, Sunkhaze Meadows NWR is comprised of three units: the Sunkhaze Meadows Unit, the Benton Unit, and the Sandy Stream Unit. The Sunkhaze Meadows Unit is the largest of the three, at 11,485 acres, located in the town of Milford, Penobscot County. The Benton Unit is a 334-acre former dairy farm in the town of Benton in Kennebec County. The Sandy Stream Unit is a 58-acre parcel in the town of Unity in Waldo County. Sunkhaze Meadows NWR was established in 1988 to preserve the Sunkhaze Meadows peat bog (now the Sunkhaze Meadows Unit) and to ensure public access to this unique environment. Sunkhaze Meadows NWR includes more than 3,450 acres of freshwater wetland-peatland that provides breeding and migrating habitat for waterfowl and other wetland species.

Carlton Pond WPA is 1,068 acres, including about 784 acres of managed emergent marsh and open water habitats. It is located in the town of Troy in Waldo County. The area was acquired by the Service in 1966 to protect the waterfowl and other wildlife associated with this area in central Maine. Carlton Pond WPA has historically provided good nesting habitat for waterfowl and other birds. It is also one of the few areas in Maine that provides nesting habitat for the black tern, which is State-listed as endangered. Many other bird species that use Carlton Pond WPA have been listed by the Partners in Flight organization as species that are declining.

Sunkhaze NWR and Carlton Pond WPA offer an abundance of wildlife observation and photography opportunities and environmental education and interpretation programs. Visitors to the refuge and WPA also participate in outdoor recreation activities such as hiking, hunting, and fishing.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

CCP Alternatives, Including the Selected Alternative

During the public scoping process, we, the Maine Department of Inland Fisheries and Wildlife, the Penobscot Indian Nation, the town of Milford, other partners, and the public raised several issues. To address these issues, we developed and evaluated three alternatives in the draft CCP and EA. Here we present a brief summary of each of the alternatives; a full description of each alternative is in the draft CCP and EA. All alternatives include measures to control invasive species, monitor and abate diseases affecting wildlife and plant health, and protect cultural resources. Because portions of Sunkhaze Stream and its tributaries have been found eligible for listing under the Wild and Scenic Rivers Act, all of the alternatives also include completing a Wild and Scenic River Study. In addition, there are several actions that are common to both alternatives B and C. These include establishing climate change monitoring, expanding partnerships, and expanding cultural resource protection and interpretation.

Alternative A (Current Management)

Alternative A (current management) satisfies the National Environmental Policy Act (40 CFR 1506.6(b)) requirement of a “No Action” alternative, which we define as “continuing current management.” It describes our existing management priorities and activities, and serves as a baseline for comparing and contrasting alternatives B and C. It would maintain our present levels of approved refuge and WPA staffing and the biological and visitor programs now in place. We would continue to focus on preserving the freshwater wetland-peatland complex on the Sunkhaze Meadows Unit, which provides habitat for breeding waterfowl. We would also continue to maintain the open water and emergent marsh habitat at Carlton Pond WPA, the grassland habitat at the Benton Unit, and the shrubland and riparian habitat at the Sandy Stream Unit. Public use activities, such as wildlife observation, photography, hiking, snowmobiling, and hunting, would continue to be allowed. We would continue to rely on volunteers to lead environmental education and interpretation programs.

Alternative B (Service-Preferred Alternative)

This alternative combines the actions we believe would most effectively achieve refuge and WPA purposes, vision, and goals; the NWRS mission; and respond to issues raised during public scoping. Under alternative B, we would focus on the preservation of the wetland-peatland complex and mature forest within the Sunkhaze Meadow Unit. In contrast to alternative A, this alternative includes more inventory and monitoring, as well as research and active management (if warranted) to benefit rare habitats on the refuge. We would continue shrubland habitat management at the Sandy Stream Unit and would expand grassland management at the Benton Unit if feasible. Management of Carlton Pond WPA would remain unchanged, focusing on providing habitat for breeding black terns and waterfowl. We would work to enhance public use activities, such as providing additional parking areas and improving maintenance of some existing public trails. Our environmental education and interpretation program would be improved by providing Service-led environmental education programs, in addition to programming conducted by partners and the Friends of Sunkhaze Meadows.

Alternative C (Increased Shrubland Young Forest Habitat and Increased Public Use)

Under alternative C, we would continue to focus on the preservation of the peatland-wetland complex at the Sunkhaze Meadows Unit. However, in contrast to alternatives A and B, this alternative includes shifting management of some mature forest and grasslands to shrubland and young forest habitat within the Sunkhaze Meadow Unit and Benton Unit to benefit species that rely on these habitats. Management of the Sandy Stream Unit and Carlton Pond WPA would be similar to alternative B. Under alternative C, we would also work closely with partners to increase and enhance authorized public uses, such as expanding the trails at the Benton Unit and providing more environmental education and interpretation programming.

Comments

We solicited comments on the draft CCP and EA for Sunkhaze Meadows NWR and Carlton Pond WPA from April 23 to May 31, 2013 (78 FR 23949). During the comment period, we received 17 sets of responses including comments from public meetings, faxes, email, and letters. We evaluated all of the substantive comments we received and include a summary of those comments, and our responses to them, as appendix G in the final CCP.

Selected Alternative

We have selected alternative B for implementation, with the following modifications:

• Under objective 4.1, we agreed to maintain the Spur Trail off of the Johnson Brook Trail in the Sunkhaze Meadows Unit.

• We clarified that we will provide wood duck nesting boxes from existing supplies upon request, as long as volunteers continue to clean, maintain, and monitor use of the boxes. After the existing supply of boxes is depleted, we will phase out artificial wood duck nesting boxes as they deteriorate, or will remove the boxes if volunteers are no longer able to maintain them (see strategies under objective 2.1).

• We added a strategy under objective 6.1 that we will explore the feasibility of, and interest in, including the Benton Unit in a regional trail system upon request.

• We modified a strategy under objective 7.2 to include specific reference to working with universities, as well as other partners, to identify research and monitoring projects and needs at each refuge unit to foster partnerships.

• We modified language in the boating compatibility determination for Carlton Pond WPA to include monitoring for potential conflicts with other authorized public uses on the WPA (e.g., hunting), and will modify this and other compatibility determinations if warranted.

We have selected alternative B to implement for Sunkhaze Meadows NWR and Carlton Pond WPA, with these minor changes, for several reasons. Alternative B incorporates a combination of actions that, in our professional judgment, work best towards achieving the refuge's and WPA's purposes, vision, and goals; Service policies; and the goals of other State and regional conservation plans. We also believe that alternative B most effectively addresses key issues raised during the planning process. The basis of our decision is detailed in the FONSI (appendix H in the final CCP).

Public Availability of Documents

In addition to any methods in ADDRESSES, you can view or obtain documents at the following location:

• Public Libraries: The Old Town Public Library, located at 46 Middle Street, Old Town, ME 04468, and the Dorothy Webb Quimby Library, located at Unity College, 90 Quaker Hill Road, Unity, ME 04988 during regular library hours.

Dated: September 27, 2013.
Wendi Weber,
Regional Director, Northeast Region.

[FR Doc. 2013-26365 Filed 11-1-13; 8:45 am]

BILLING CODE 4310-55-P